DEPARTMENT OF AGRICULTURE

Agricultural Marketing Service

7 CFR Part 920

[Docket No. AMS-FV-08-0014; FV08-920-1]

Kiwifruit Grown in California; Continuance Referendum

AGENCY: Agricultural Marketing Service, USDA.

ACTION: Referendum order.

SUMMARY: This document directs that a continuance referendum be conducted among eligible California kiwifruit growers to determine whether they favor continuance of the marketing order regulating the handling of kiwifruit grown in California.

DATES: The referendum will be conducted from May 15 through May 30, 2008. To vote in this referendum, growers must have been engaged in producing kiwifruit within the production area during the period August 1, 2007, through April 30, 2008.

ADDRESSES: Copies of the marketing order may be obtained from the California Marketing Field Office, Marketing Order Administration Branch, Fruit and Vegetable Programs, AMS, USDA, 2202 Monterey Street, #102-B, Fresno, California 93721, or the Office of the Docket Clerk, Marketing Order Administration Branch, Fruit and Vegetable Programs, Agricultural Marketing Service, U.S. Department of Agriculture, 1400 Independence Avenue, SW., Stop 0237, Washington, DC 20250-0237.

FOR FURTHER INFORMATION CONTACT: Kurt J. Kimmel, Regional Manager, or Maureen T. Pello, Assistant Regional Manager, California Marketing Field Office, Marketing Order Administration Branch, Fruit and Vegetable Programs, AMS, USDA; Telephone: (559) 487-5901, Fax: (559) 487-5906, or e-mail: Kurt.Kimmel@usda.gov, or Maureen.Pello@usda.gov.

SUPPLEMENTARY INFORMATION: Pursuant to Marketing Order No. 920 (7 CFR part 920), hereinafter referred to as the “order,” and the applicable provisions of the Agricultural Marketing Agreement Act of 1937, as amended (7 U.S.C. 601-674), hereinafter referred to as the “Act,” it is hereby directed that a referendum be conducted to ascertain whether continuance of the order is favored by growers. The referendum shall be conducted during the period May 15 through May 30, 2008, among eligible kiwifruit growers in the production area. Only growers that were engaged in the production of kiwifruit in California during the period of August 1, 2007, through April 30, 2008, may participate in the continuance referendum.

USDA has determined that continuance referenda are an effective means for determining whether growers favor the continuation of marketing order programs. USDA would consider termination of the order if less than 50 percent of the growers who vote in the referendum and growers of less than 50 percent of the volume of kiwifruit represented in the referendum favor continuance of their program.

In evaluating the merits of continuance versus termination, USDA will not only consider the results of the continuance referendum. USDA will also consider all other relevant information concerning the operation of the order and the relative benefits and disadvantages to growers, processors, and consumers in order to determine whether continued operation of the order would tend to effectuate the declared policy of the Act.

In accordance with the Paperwork Reduction Act of 1995 (44 U.S.C. Chapter 35), the ballot materials used in the referendum herein ordered have been previously approved by the Office of Management and Budget (OMB) under OMB No. 0581-0189, OMB Generic Fruit Crops. It has been estimated that it will take an average of 20 minutes for each of the approximately 250 producers of kiwifruit in the production area to cast a ballot. Participation is voluntary. Ballots postmarked after May 30, 2008, will not be included in the vote tabulation.

Kurt J. Kimmel and Maureen T. Pello of the California Marketing Field Office, Fruit and Vegetable Programs, Agricultural Marketing Service, USDA, are hereby designated as the referendum agents of USDA to conduct such referendum. The procedure applicable to the referendum shall be the “Procedure for the Conduct of Referenda in Connection With Marketing Orders for Fruits, Vegetables, and Nuts Pursuant to the Agricultural Marketing Agreement Act of 1937, as Amended” (7 CFR 900.400 et seq.).

Ballots will be mailed to all growers of record and may also be obtained from the referendum agents and from their appointees.

List of Subjects in 7 CFR Part 920

Kiwifruit, Marketing agreements, Reporting and recordkeeping requirements.

Authority: 7 U.S.C. 601-674.

Dated: April 8, 2008.
Lloyd C. Day,
Administrator, Agricultural Marketing Service.

[FR Doc. E8-7864 Filed 4-11-08; 8:45 am]

BILLING CODE 3410-02-P